DEPARTMENT OF HOMELAND SECURITY

8 CFR Part 208

Procedures for Asylum and Withholding of Removal

CFR Correction

In Title 8 of the Code of Federal Regulations, revised as of January 1, 2013, on page 157, in § 208.13, paragraph (c)(2)(ii) is moved to the end of the section, following paragraph (c)(2)(i)(F).

[FR Doc. 2013-17385 Filed 7-17-13; 8:45 am]

BILLING CODE 1505-01-D